DEPARTMENT OF COMMERCE

International Trade Administration

[A-570-932]

Certain Steel Threaded Rod From the People's Republic of China: Preliminary Results of the Antidumping Duty Administrative Review and Preliminary Determination of No Shipments; 2018-2019

AGENCY: Enforcement and Compliance, International Trade Administration, Department of Commerce.

SUMMARY: The Department of Commerce (Commerce) preliminarily determines that RMB Fasteners Ltd. and IFI & Morgan Ltd. (collectively, RMB/IFI) and Certified Products International Inc. (CPI) did not have any shipments of subject merchandise during the period of review (POR), and that the 172 remaining companies subject to this administrative review should be treated as part of the China-wide entity because they failed to demonstrate their eligibility for a separate rate. The POR is April 1, 2018 through March 31, 2019.

DATES: Applicable December 30, 2019.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On June 13, 2019, Commerce published the notice of initiation of the administrative review of the antidumping duty order on certain steel threaded rod (STR) from China.¹ On June 21, 2019, CPI reported that it had no shipments during the POR.² On July 15, 2019, RMB/IFI ³ submitted a no shipments certification and a separate rate certification.⁴

¹ See Initiation of Antidumping and Countervailing Duty Administrative Reviews, 84 FR 27587 (June 13, 2019).

² See CPI's Letter, “No Shipment Letter for Certified Products International Inc.: Tenth Annual Administrative Review of the Antidumping Duty Order on Certain Steel Threaded Rod from the People's Republic of China, A-570-932 (POR: 04/01/18-03/31/19),” dated June 21, 2019.

³ During the investigation, Commerce found RMB/IFI to be a single entity, and because there were no changes during the POR to the facts that supported that determination, we continue to find that these companies are a part of a single entity for this administrative review. See Certain Steel Threaded Rod from the People's Republic of China: Preliminary Determination of Sales at Less Than Fair Value, 73 FR 58931 (October 8, 2008), unchanged in Certain Steel Threaded Rod from the Peoples Republic of China: Final Determination of Sales at Less Than Fair Value, 74 FR 8907 (February 27, 2009).

⁴ See RMB/IFI's Letter, “Steel Threaded Rod from the People's Republic of China—No Sales Certification and Separate Rate Certification,” dated July 15, 2019.

For a complete description of the events that followed the initiation of this administrative review, see the Preliminary Decision Memorandum.⁵ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed and the electronic versions of the Preliminary Decision Memorandum are identical in content.

⁵ See Memorandum, “Decision Memorandum for the Preliminary Results of the 2018-2019 Antidumping Duty Administrative Review: Certain Steel Threaded Rod from the People's Republic of China,” dated concurrently with, and hereby adopted by, this notice (Preliminary Decision Memorandum).

Scope of the Order

The product covered by this review is STR from China. For a full description of the scope, see the Preliminary Decision Memorandum, dated concurrently with and hereby adopted by this notice.⁶

⁶ Id.

Methodology

Commerce is conducting this review in accordance with section 751(a)(1)(B) of the Tariff Act of 1930, as amended (the Act), and 19 CFR 351.213.

Preliminary Determination of No Shipments

Based on the available record information, Commerce preliminarily determines that these companies had no shipments during the POR. For additional information regarding this determination, see the Preliminary Decision Memorandum. Consistent with our assessment practice in non-market economy (NME) administrative reviews, Commerce is not rescinding this review for these companies, but intends to complete the review and issue appropriate instructions to Customs and Border Protection (CBP) based on the final results of the review.⁷

⁷ See Non-Market Economy Antidumping Proceedings: Assessment of Antidumping Duties, 76 FR 65694, 65694-95 (October 24, 2011); see also the “Assessment Rates” section, infra.

Separate Rates

Because no other company under review submitted a separate rate application or certification, Commerce preliminarily determines that these companies have not demonstrated their eligibility for a separate rate.⁸ For additional information, see the Preliminary Decision Memorandum.

⁸ We note that RMB/IFI submitted a separate rate certification (SRC). However, this filing is moot because we determined that RMB/IFI had no reviewable shipments during the POR.

China-Wide Entity

Commerce's policy regarding conditional review of the China-wide entity applies to this administrative review.⁹ Under this policy, the China-wide entity will not be under review unless a party specifically requests, or Commerce self-initiates, a review of the entity. Because no party requested a review of the China-wide entity, and we did not self-initiate a review, the China-wide entity rate (i.e., 206.00 percent) ¹⁰ is not subject to change as a result of this review. Aside from the companies discussed above, Commerce considers all other companies for which a review was requested ¹¹ to be part of the China-wide entity. For additional information, see the Preliminary Decision Memorandum.

⁹ See Antidumping Proceedings: Announcement of Change in Department Practice for Respondent Selection in Antidumping Duty Proceedings and Conditional Review of the Nonmarket Economy Entity in NME Antidumping Duty Proceedings, 78 FR 65963 (November 4, 2013).

¹⁰ See Certain Steel Threaded Rod from the People's Republic of China: Notice of Antidumping Duty Order, 74 FR 17154 (April 14, 2009).

¹¹ See Appendix I.

Public Comment

In accordance with 19 CFR 351.309(c), case briefs or other written comments may be submitted to the Assistant Secretary for Enforcement and Compliance no later than 30 days after the date of publication of the preliminary determination, unless the Secretary alters the time limit. Rebuttal briefs, limited to issues raised in case briefs, may be submitted no later than five days after the deadline date for case briefs.¹² Pursuant to 19 CFR 351.309(c)(2) and (d)(2), parties who submit case briefs or rebuttal briefs in this investigation are encouraged to submit with each argument: (1) A statement of the issue; (2) a brief summary of the argument; and (3) a table of authorities.

¹² See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Assessment Rates

Upon issuance of the final results of this review, Commerce will determine, and CBP shall assess, antidumping duties on all appropriate entries of subject merchandise covered by this review.¹³ We intend to instruct CBP to liquidate entries containing subject merchandise exported by the companies under review that we determine in the final results to be part of the China-wide entity at the China-wide rate of 206.00 percent. Commerce intends to issue assessment instructions to CBP 15 days after the date of publication of the final results of this review in the Federal Register.¹⁴

¹³ See 19 CFR 351.212(b)(1).

¹⁴ For a full discussion of this practice, see Non-Market Economy Antidumping Proceedings: Assessment of Antidumping Duties, 76 FR 65694 (October 24, 2011).

Cash Deposit Requirements

The following cash deposit requirements will be effective upon publication of the notice of final results of this administrative review for shipments of subject merchandise from China entered, or withdrawn from warehouse, for consumption on or after the publication date, as provided by sections 751(a)(2)(C) of the Act: (1) For companies that have a separate rate, the cash deposit rate will be that established in the final results of this review (except that if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity (i.e., 206.00 percent); and (4) for all non-Chinese exporters of subject merchandise which have not received their own rate, the cash deposit rate will be the rate applicable to the Chinese exporter that supplied that non-Chinese exporter. These deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: December 19, 2019.
Jeffrey I. Kessler,
Assistant Secretary, for Enforcement and Compliance.

Appendix I

Companies Not Granted a Separate Rate

1. Aerospace Precision Corp. (Shanghai) Industry Co., Ltd

2. Aihua Holding Group Co. Ltd.

3. Autocraft Industry (Shanghai) Ltd.

4. Autocraft Industry Ltd.

5. Billion Land Ltd.

6. Billion Technology Ltd

7. Billiongold Hardware Co. Ltd

8. BOLT Mfg. Trade Ltd.

9. Brighton Best International (Taiwan) Inc.

10. Brother Holding Group Co. Ltd.

11. C and H International Corporation

12. Catic Fujian Co., Ltd.

13. Cci International Ltd.

14. Century Distribution Systems Inc

15. Changshu City Standard Parts Factory

16. China Friendly Nation Hardware Technology Limited

17. D.M.D. International Co. Ltd.

18. Da Cheng Hardware Products Co., Ltd.

19. Dalian Xingxin Steel Fabrication

20. Dongxiang Accuracy Hardware Co., Ltd.

21. Ec International (Nantong) Co. Ltd.

22. Fastco (Shanghai) Trading Co., Ltd.

23. Fasten International Co., Ltd.

24. Fastenal Canada Ltd.

25. Fastwell Industry Co. Ltd.

26. Fook Shing Bolts & Nuts Co. Ltd.

27. Fuda Xiongzhen Machinery Co., Ltd.

28. Fuller Shanghai Co. Ltd.

29. Gem-Year Industrial Co. Ltd.

30. Guangdong Honjinn Metal & Plastic Co., Ltd.

31. Hainan Zhongyan United Development Co.

32. Haining Hifasters Industrial Co.

33. Haining Shende Imp. & Exp. Co. Ltd.

34. Haining Zhongda Fastener Co., Ltd.

35. Haiyan Ai&Lun Standard Fastener Co.

36. Haiyan Chaoqiang Standard Fastener

37. Haiyan Dayu Fasteners Co., Ltd.

38. Haiyan Evergreen Standard Parts Co. Ltd.

39. Haiyan Fuxin High Strength Fastener

40. Haiyan Hatehui Machinery Hardware

41. Haiyan Hurras Import & Export Co. Ltd.

42. Haiyan Jianhe Hardware Co. Ltd.

43. Haiyan Julong Standard Part Co. Ltd.

44. Haiyan Shangchen Imp. & Exp. Co.

45. Haiyan Yuxing Nuts Co. Ltd.

46. Hangzhou Everbright Imp. & Exp. Co. Lt

47. Hangzhou Grand Imp. & Exp. Co., Ltd.

48. Hangzhou Great Imp. & Exp. Co. Ltd.

49. Hangzhou Lizhan Hardware Co. Ltd.

50. Hangzhou Prostar Enterprises Ltd.

51. Hangzhou Tongwang Machinery Co., Ltd.

52. Hilti (China) Ltd.

53. Hong Kong Sunrise Fasteners Co. Ltd.

54. Hong Kong Yichen Co. Ltd.

55. Honoble Precision (China) Mfg.

56. Intech Industries Shanghai Co., Ltd.

57. Jiangsu Innovo Precision Machinery

58. Jiangsu Jinhuan Fastener Co., Ltd.

59. Jiangsu Zhongweiyu Communication Equipment Co. Ltd.

60. Jiashan Steelfit Trading Co. Ltd.

61. Jiashan Zhongsheng Metal Products Co., Ltd.

62. Jiaxing Allywin Mfg. Co., Ltd.

63. Jiaxing Brother Standard Part Co., Ltd

64. Jiaxing Chinafar Standard

65. Jiaxing Jinhow Import & Export Co., Ltd.

66. Jiaxing Sini Fastener Co., Ltd.

67. Jiaxing Xinyue Standard Part Co. Ltd.

68. Jiaxing Yaoliang Import & Export Co. Ltd.

69. Jinan Banghe Industry & Trade Co., Ltd.

70. Kinfast Hardware (Shenzhen) Ltd.

71. King Socket Screw Company Ltd.

72. L&W Fasteners Company

73. Macropower Industrial Inc.

74. Mai Seng International Trading Co., Ltd.

75. MB Services Company

76. Midas Union Co., Ltd.

77. Nanjing Prosper Import & Export Corporation Ltd.

78. Nantong Runyou Metal Products

79. New Pole Power System Co. Ltd.

80. Ningbiao Bolts & Nuts Manufacturing Co.

81. Ningbo Abc Fasteners Co., Ltd.

82. Ningbo Beilun Milfast Metalworks Co. Ltd.

83. Ningbo Beilun Pingxin Hardware Co., Ltd.

84. Ningbo Dexin Fastener Co. Ltd.

85. Ningbo Dongxin High-Strength Nut Co., Ltd.

86. Ningbo Exact Fasteners Co., Ltd.

87. Ningbo Fastener Factory

88. Ningbo Fengya Imp. and Exp. Co. Ltd.

89. Ningbo Fourway Co., Ltd.

90. Ningbo Haishu Holy Hardware Import and Export Co. Ltd.

91. Ningbo Haishu Wit Import & Export Co. Ltd.

92. Ningbo Haishu Yixie Import & Export Co. Ltd.

93. Ningbo Jinding Fastening Piece Co., Ltd.

94. Ningbo MPF Manufacturing Co. Ltd.

95. Ningbo Panxiang Imp. & Exp. Co. Ltd.

96. Ningbo Qianjiu Instrument Case Factory

97. Ningbo Seduno Imp. Exp. Co., Ltd.

98. Ningbo Yili Import & Export Co., Ltd.

99. Ningbo Yinzhou Dongxiang Accuracy Hardware Co., Ltd.

100. Ningbo Yinzhou Foreign Trade Co., Ltd.

101. Ningbo Yinzhou Woafan Industry & Trade Co., Ltd.

102. Ningbo Zhenghai Yongding Fastener Co., Ltd.

103. Ningbo Zhenhai Beisuda Equipment Co.

104. Ningbo Zhenhai Dingli Fastener Screw Co., Ltd.

105. Ningbo Zhenhai Jinhuan Fasteners

106. Ningbo Zhongjiang High Strength Bolts Co. Ltd.

107. Ningbo Zhongjiang Petroleum Pipes & Machinery Co. Ltd.

108. Orient International Holding Shanghai Rongheng Intl Trading Co. Ltd.

109. Orient Rider Corporation Ltd.

110. Panxiang Imp. & Exp. Co., Ltd.

111. Pol Shin Fastener (Zhejiang) Co.

112. Prosper Business and Industry Co., Ltd.

113. Qingdao Free Trade Zone Health Intl.

114. Qingdao Top Steel Industrial Co. Ltd.

115. Sampulse Industrial Co., Ltd.

116. Shaanxi Succeed Trading Co., Ltd.

117. Shanghai Autocraft Co., Ltd.

118. Shanghai Beitra Fasteners Co., Ltd.

119. Shanghai East Best Foreign Trade Co.

120. Shanghai East Best International Business Development Co., Ltd.

121. Shanghai E-Heng Imp. & Exp. Co. Ltd.

122. Shanghai Fortune International Co. Ltd.

123. Shanghai Furen International Trading

124. Shanghai Hunan Foreign Economic Co., Ltd.

125. Shanghai Jiabao Trade Development Co. Ltd.

126. Shanghai Nanshi Foreign Economic Co.

127. Shanghai Overseas International Trading Co. Ltd.

128. Shanghai Prime Machinery Co. Ltd.

129. Shanghai Printing & Dyeing and Knitting Mill

130. Shanghai Printing & Packaging Machinery Corp

131. Shanghai Recky International Trading Co., Ltd.

132. Shanghai Sinotex United Corp. Ltd.

133. Shanghai Strong Hardware Co. Li

134. Shanghai Wisechain Fasteners Ltd.

135. Shenzhen Fenda Technology Co., Ltd.

136. Shenzhen Haozhenghao Technology Co.

137. Shijiazhuang Huitongxiang Li Trade

138. Soyoung Industrial Co., Ltd.

139. SRC Metal (Shanghai) Co. Ltd.

140. untec Industries Co., Ltd.

141. Suzhou Henry International Trading Co., Ltd.

142. T and C Fastener Co. Ltd.

143. T and L Industry Co. Ltd.

144. Taizhou Maixing Machinery Co.

145. Telsto Development Co., Ltd.

146. The Hoffman Group International

147. Tianjin Port Free Trade Zone Tianjin Star International Trade Co., Ltd.

148. Tong Ming Enterprise Co., Ltd.

149. Tong Win International Co., Ltd.

150. Tri Steel Co., Ltd.

151. Wisechain Trading Limited

152. Wuxi Metec Metal Co. Ltd.

153. Xiamen Hua Min Imp. and Exp. Co. Ltd.

154. Xiamen Rongxinda Industry Co., Ltd.

155. Xiamen Yuhui Import & Export Co., Ltd.

156. Yogendra International

157. Yuyao Hualun Imp. & Exp. Co., Ltd.

158. Zhangjiagang Ever Faith Industry Co.

159. Zhejiang Heirrmu Mechanical and Electrical Equipment Manufacturing Co Ltd.

160. Zhejiang Heiter Industries Co., Ltd,

161. Zhejiang Heiter Mfg & Trade Co. Ltd.

162. Zhejiang Jin Zeen Fasteners Co. Ltd.

163. Zhejiang Junyue Standard Part Co., Ltd.

164. Zhejiang Junyue Standard Parts Co., Ltd.

165. Zhejiang Laibao Precision Technology Co. Ltd.

166. Zhejiang Metals & Minerals Imp & Exp Co. Ltd.

167. Zhejiang Morgan Brother Technology Co. Ltd.

168. Zhejiang New Century Imp & Exp Co. Ltd.

169. Zhejiang New Oriental Fastener Co., Ltd.

170. Zhejiang Zhenglian Industry Development Co., Ltd.

171. Zhongsheng Metal Co., Ltd.

172. Zhoushan Zhengyuan Standard Parts Co., Ltd.

Appendix II

List of Topics Discussed in the Preliminary Decision Memorandum

I. Summary

II. Background

III. Scope of the Order

IV. Discussion of the Methodology

V. Recommendation

[FR Doc. 2019-28034 Filed 12-27-19; 8:45 am]

BILLING CODE 3510-DS-P